SMALL BUSINESS ADMINISTRATION

[Disaster Declaration #12497 and #12498]

Tennessee Disaster #TN-00048

AGENCY: U.S. Small Business Administration.

ACTION: Amendment 1.

SUMMARY: This is a an amendment of the Administrative declaration of a disaster for the State of Tennessee dated 03/23/2011.

Incident: Severe Storms and Flooding.

Incident Period: 02/28/2011 through 03/09/2011.

Effective Date: 04/05/2011.

Physical Loan Application Deadline Date: 05/23/2011.

Economic Injury (EIDL) Loan Application Deadline Date: 12/23/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Administrator's disaster declaration in the State of Tennessee, dated 03/23/2011, is hereby amended to establish the incident period for this disaster as beginning 02/28/2011 and continuing through 03/09/2011.

All other information in the original declaration remains unchanged.

(Catalog of Federal Domestic Assistance Numbers 59002 and 59008)

Dated: April 5, 2011.
Karen G. Mills,
Administrator.

[FR Doc. 2011-8607 Filed 4-11-11; 8:45 am]

BILLING CODE 8025-01-P